DEPARTMENT OF LABOR

Mine Safety and Health Administration

[OMB Control No. 1219-0151]

Proposed Extension of Information Collection: Cleanup Program for Accumulations of Coal and Float Coal Dusts, Loose Coal, and Other Combustibles

AGENCY: Mine Safety and Health Administration, Labor.

ACTION: Request for public comments.

SUMMARY: The Department of Labor (DOL), as part of its continuing effort to reduce paperwork and respondent burden, conducts a pre-clearance consultation program for all information collections, to provide the public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection titled “Cleanup Program for Accumulations of Coal and Float Coal Dusts, Loose Coal, and Other Combustibles.”

DATES: All comments must be received on or before November 24, 2025.

ADDRESSES: Comments concerning the information collection requirements of this notice may be sent by any of the methods listed below. Please note that comments received after the deadline will not be considered.

• Federal E-Rulemaking Portal: https://www.regulations.gov. Follow the on-line instructions for submitting comments for docket number MSHA-2025-0053.

• Mail/Hand Delivery: DOL-MSHA, Office of Standards, Regulations, and Variances, 200 Constitution Avenue NW, Room C3522, Washington, DC 20210. Before visiting MSHA in person, call 202-693-9440 to make an appointment.

• MSHA will post all comments as well as any attachments, except for information submitted and marked as confidential, in the docket at https://www.regulations.gov.

FOR FURTHER INFORMATION CONTACT: Jessica D. Senk, Acting Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977 (Mine Act), as amended, 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal and nonmetal (MNM) mines.

The Paperwork Reduction Act of 1995 (PRA) governs paperwork burdens imposed on the public by Federal agencies for using identical questions to collect information from 10 or more persons. The PRA defines paperwork burden in 44 U.S.C. 3502(2) as time, effort, or financial resources expended to generate, maintain, or provide information to or for a Federal agency. Under 44 U.S.C. 3507, the PRA also establishes policies and procedures of information collection for controlling paperwork burdens imposed by Federal agencies on the public, including evaluating public comments.

B. Information Collection

To fulfill its statutory mandate to promote miners' health and safety, MSHA requires information collected under the ICR titled “Cleanup Program for Accumulations of Coal and Float Coal Dusts, Loose Coal, and Other Combustibles.” This information collection is intended to ensure that underground coal mine operators develop and maintain effective cleanup programs to protect miners from accumulations of coal dust and float coal dusts, loose coal, and other combustibles that could create the potential of an explosion hazard.

Under 30 CFR 75.400, coal dust, including float coal dust deposited on rock-dusted surfaces, loose coal, and other combustible materials, shall be cleaned up and not be permitted to accumulate in active workings, or on diesel-powered and electric equipment. Under 30 CFR 75.400-1, coal dust is defined as particles of coal that can pass a No. 20 sieve; float coal dust is defined as the coal dust consisting of particles of coal that can pass a No. 200 sieve; and loose coal is defined as coal fragments larger in size than coal dust. Under 30 CFR 75.401-1, excessive amounts of dust is defined as coal and float coal dust in the air in such amounts as to create the potential of an explosion hazard.

Programs for effective and frequent rock dust cleanup and removal of accumulations of coal and float coal dusts, loose coal, and other combustibles are necessary to protect miners from the potential for a coal dust explosion.

Burden costs associated with this ICR include:

i. Establishing new cleanup programs; and

ii. Updating existing cleanup programs.

The associated standards that authorize the collection of information are described below.

1. Establishing and Updating Cleanup Programs (30 CFR 75.400-2)

Under 30 CFR 75.400-2, mine operators shall establish and maintain programs for regular cleanup and removal of accumulations of coal and float coal dusts, loose coal, and other combustibles. The programs shall be made available to the Secretary or authorized representative.

II. Desired Focus of Comments

MSHA is soliciting comments concerning the proposed information collection titled “Cleanup Program for Accumulations of Coal and Float Coal Dusts, Loose Coal, and Other Combustibles.” MSHA is particularly interested in comments that:

• Evaluate whether the information collection is necessary for the proper performance of the functions of the Agency, including whether the information has practical utility;

• Evaluate the accuracy of MSHA's estimate of the burden of the information collection, including the validity of the methodology and assumptions used;

• Suggest methods to enhance the quality, utility, and clarity of the information to be collected; and

• Minimize the burden of the information collection on those who are to respond, including through the use of appropriate automated, electronic, mechanical, or other technological collection techniques or other forms of information technology, e.g., permitting electronic submission of responses.

The ICR is available on https://www.regulations.gov. MSHA cautions commenters against providing any information in the submission that should not be publicly disclosed. Full comments, including personal information provided, will be made available on https://www.regulations.gov and https://www.reginfo.gov.

The public may also examine publicly available documents at DOL-MSHA, Office of Standards, Regulations and Variances, 200 Constitution Avenue NW, Room C3522, Washington, DC 20210. Before visiting MSHA in person, call 202-693-9440 to make an appointment.

Questions about the ICR may be directed to the person listed in the FOR FURTHER INFORMATION section of this notice.

III. Current Actions

This ICR concerns provisions for the Cleanup Program for Accumulations of Coal and Float Coal Dusts, Loose Coal, and Other Combustibles. MSHA has updated the data with respect to the number of respondents, responses, time burden, and burden costs supporting this ICR from the previous ICR.

Type of Review: Extension, without change, of a currently approved collection.

Agency: Mine Safety and Health Administration.

OMB Number: 1219-0151.

Affected Public: Business or other for-profit.

Number of Annual Respondents: 146.

Frequency: On occasion.

Number of Annual Responses: 132.

Annual Time Burden: 197 hours.

Annual Respondent or Recordkeeper Costs: $0.

Comments submitted in response to this notice will be summarized and included in the request for Office of Management and Budget approval of the proposed ICR; they will become a matter of public record and be available at https://www.reginfo.gov.

Jessica D. Senk,
Certifying Officer, Mine Safety and Health Administration.

[FR Doc. 2025-18539 Filed 9-24-25; 8:45 am]

BILLING CODE 4510-43-P